DEPARTMENT OF HEALTH AND HUMAN SERVICES

Centers for Disease Control and Prevention

[30Day-09-08BJ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

A Study of Primary and Secondary Prevention Behaviors Practiced Among Five-Year Survivors of Colorectal Cancer—New—National Center for Chronic Disease Prevention and Control (NCCDPHP), Centers for Disease Control and Prevention (CDC).

Background and Brief Description

Colorectal cancer (CRC) is the third most prevalent cancer and the second leading cause of cancer death in both men and women in the United States. In 2004, there were an estimated 145,083 new cases of colorectal cancer diagnosed and 53,580 deaths. However, the five-year relative survival rates of patients diagnosed with CRC have been steadily increasing since 1975 and there are now over one million CRC survivors in the U.S.

Despite improved survival rates, CRC survivors are at an elevated risk for cancer recurrence, second primary cancers, and other health problems after being treated for cancer. Research evidence suggests that these elevated risks can be mitigated by healthy lifestyle practices and by undergoing regular medical follow-up and cancer screenings, however, little is known about the factors that motivate or hinder the adoption of recommended cancer prevention and screening behaviors in this population.

CDC proposes to conduct a survey of five-year CRC survivors to collect information about knowledge, attitudes, psychosocial factors, health status and behaviors, and utilization of health care services including screening services. Potential survey respondents will be identified through California Cancer Registry records. Each physician associated with one or more CRC patients will be responsible for reviewing a customized list of names to identify patients who should not be contacted for recruitment into the study. Following receipt of physician permission to contact potential participants, and receipt of participant consent, 1,000 respondents will complete a survey of health behaviors. Approximately 900 respondents are expected to complete a self-administered survey that will be delivered and returned by mail, and 100 respondents are expected to complete the survey by computer-assisted telephone interview, in response to a follow-up call from study staff. OMB clearance is being requested for one year of data collection.

Findings from this study will help guide future policies, programs, and interventions developed to enhance and improve the long-term health and well being of cancer survivors.

There are no costs to respondents except the time to complete the survey. The total estimated burden hours are 1,095.

Estimated Annualized Burden Hours
Type of respondents | Form name | Number of respondents | Number of responses per respondent | Average burden per response (in hours) | Total burden (in hours)
Physicians | List of Potential Study Participants | 1,950 | 1 | 13/60 | 423
CRC Survivors | Script for CATI Follow-up | 100 | 1 | 3/60 | 5
| Survey of Health Behaviors | 1,000 | 1 | 40/60 | 667

Dated: April 1, 2009.
Maryam I. Daneshvar,
Acting Reports Clearance Officer, Centers for Disease Control and Prevention.

[FR Doc. E9-7789 Filed 4-6-09; 8:45 am]

BILLING CODE 4163-18-P